INTERNATIONAL TRADE COMMISSION

[Inv. No. 337-TA-816]

Certain Wiper Blades; Institution of Investigation

AGENCY: U.S. International Trade Commission.

ACTION: Notice.

SUMMARY: Notice is hereby given that a complaint was filed with the U.S. International Trade Commission on October 26, 2011, under section 337 of the Tariff Act of 1930, as amended, 19 U.S.C. 1337, on behalf of Robert Bosch LLC of Farmington Hills, Michigan. The complaint alleges violations of section 337 based upon the importation into the United States, the sale for importation, and the sale within the United States after importation of certain wiper blades by reason of infringement of certain claims of U.S. Patent No. 6,523,218 (“the '218 patent”); U.S. Patent No. 6,553,607 (“the '607 patent”); U.S. Patent No. 6,611,988 (“the '988 patent”); U.S. Patent No. 6,675,434 (“the '434 patent”); U.S. Patent No. 6,836,926 (“the '926 patent”); U.S. Patent No. 6,944,905 (“the '905 patent”); U.S. Patent No. 6,973,698 (“the '698 patent”); U.S. Patent No. 7,293,321 (“the '321 patent”); and U.S. Patent No. 7,523,520 (“the '520 patent”). The complaint further alleges that an industry in the United States exists as required by subsections (a)(2) and (3) of section 337.

The complainant requests that the Commission institute an investigation and, after the investigation, issue an exclusion order and cease and desist order.

ADDRESSES: The complaint, except for any confidential information contained therein, is available for inspection during official business hours (8:45 a.m. to 5:15 p.m.) in the Office of the Secretary, U.S. International Trade Commission, 500 E Street, SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2011).

Scope of Investigation: Having considered the complaint, the U.S. International Trade Commission, on November 21, 2011, Ordered that—

(1) Pursuant to subsection (b) of section 337 of the Tariff Act of 1930, as amended, an investigation be instituted to determine whether there is a violation of subsection (a)(1)(B) of section 337 in the importation into the United States, the sale for importation, or the sale within the United States after importation of certain wiper blades that infringe one or more of claims 1-3, 5-7, and 10 of the '218 patent; claims 1-12 and 14 of the '607 patent; claims 1-6, 8-12, and 15 of the '988 patent; claims 1, 5, 7, and 13 of the '434 patent; claims 1-3 of the '926 patent; claims 1, 3, 4, 8, 10, 11, 13, and 15-18 of the '905 patent; claim 1 of the '698 patent; claims 1-5, 9, and 10 of the '321 patent; and claims 1-5, 9, 10, 18, and 19 of the '520 patent; and whether an industry in the United States exists as required by subsections (a)(2) and (3) of section 337;

(2) For the purpose of the investigation so instituted, the following are hereby named as parties upon which this notice of investigation shall be served:

(a) The complainant is:

Robert Bosch LLC, 38000 Hills Tech Drive, Farmington Hills, MI 48331.

(b) The respondent is the following entity alleged to be in violation of section 337, and is the party upon which the complaint is to be served:

ADM21 Co., Ltd., 742-6 Wonsi-dong, Danwon-gu, Ansan-si, Gyeonggi-do, Korea, 425-090;

ADM21 Co. (North America) Ltd., 333 Sylvan Avenue, Suite 106, Englewood Cliffs, NJ 07632;

Alberee Products, Inc., d/b/a Saver Automotive Products, Inc., 510 E. Preston Street, Baltimore, MD 21202;

API Korea Co., Ltd., 45B-4L, #435-3, Nonhyeon-Dong, NamDong-Gu Incheon, Korea, 405-848;

Cequent Consumer Products, Inc., 29000-2 Aurora Rd., Solon, OH 44139;

Corea Autoparts Producing Corporation, d/b/a CAP America, 800, Oidap-Dong, Sangju-City, Gyeongsangbuk-do, South Korea, 742-320;

Danyang UPC Auto Parts Co., Ltd., Dachengqiao Industrial Park, Jiepai Town, Danyang City, Jiangsu, China, 212323;

Fu-Gang Co., Ltd., No. 65, Ligong 2nd Rd., Wujie Township, Yilan County 268, Taiwan;

PIAA Corporation USA, 3004 NE. 181st Avenue, Portland, OR 97230;

Pylon Manufacturing Corp., 1341 W. Newport Center Drive, Deerfield Beach, FL 33442;

RainEater, LLC, 2800 W. 21st St., Erie, PA 16506;

Scan Top Enterprise Co., Ltd., RM. 4E-17, No. 5, Sec. 5, Hsin Yi Road, Taipei 110, Taiwan R.O.C.;

Winplus North America Inc., 820 South Wanamaker Ave., Ontario, CA 91761.

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: November 21, 2011.
James R. Holbein,
Secretary to the Commission.

[FR Doc. 2011-30568 Filed 11-28-11; 8:45 am]

BILLING CODE 7020-02-P